DEPARTMENT OF COMMERCE

International Trade Administration

[A-580-816]

Notice of Rescission of Antidumping Duty Administrative Review: Certain Corrosion-Resistant Carbon Steel Flat Products from Korea

AGENCY: Import Administration, International Trade Administration, Department of Commerce.

ACTION: Notice of rescission of the antidumping duty administrative review of certain corrosion-resistant carbon steel flat products from Korea.

SUMMARY: On September 25, 2002, the Department of Commerce (“Department”) published a notice of initiation of an antidumping duty administrative review on certain corrosion-resistant carbon steel flat products from Korea (67 FR 60210). This review covers three manufacturers/exporters of the subject merchandise. The period of review (“POR”) is August 1, 2001 through July 31, 2002. This review has now been rescinded as a result of a timely withdrawal of the request for administrative review by the interested parties.

EFFECTIVE DATE: November 13, 2002.

FOR FURTHER INFORMATION CONTACT: Marlene Hewitt or James Doyle, Enforcement Group III, Office 9, Import Administration, International Trade Administration, U.S. Department of Commerce, 1401 Constitution Avenue, NW, Washington, DC 20230, telephone 202-482-1385 (Hewitt) or 202-482-0159 (Doyle), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (2002).

Background

On August 6, 2002, the Department published a notice of opportunity to request an administrative review of this order for the period August 1, 2001 through July 31, 2002. See Antidumping or Countervailing Duty Order, Finding, or Suspended Investigation; Opportunity to Request Administrative Review, 67 FR 50856 (August 6, 2002). Bethlehem Steel Corporation, National Steel Corporation, and United States Steel Corporation, petitioners in the original investigation, producers of the domestic like product, and therefore interested parties, timely requested that the Department conduct an administrative review of sales of Pohang Iron & Steel Co., Ltd. (“POSCO”), Dongbu Steel Co., Ltd. (“Dongbu”) and Union Steel Manufacturing Co., Ltd. (“Union”) of subject merchandise to the United States. On September 25, 2002, in accordance with section 751(a) of the Act, the Department published in the Federal Register a notice of initiation of this antidumping duty administrative review. See Initiation of Antidumping and Countervailing Duty Administrative Reviews and Requests for Revocation in Part, 67 FR 60210 (September 25, 2002).

Rescission of Review

Petitioners withdrew their request for review on September 30, 2002. The Department's regulations provide that the Secretary will rescind an administrative review “if a party that requested a review withdraws the request within 90 days of the date of publication of notice of initiation of the requested review.” See 19 CFR 351.213(d)(1). Petitioners withdrew their review request within the 90-day time limit. There were no other requests for administrative review from respondents or other interested parties. Therefore, in accordance with section 351.213(d)(1) of the Department's regulations, we are rescinding this administrative review. See Memorandum to the File from Marlene Hewitt, Enforcement Group III: Recission of Ninth Review (October 17, 2002). The Department will issue appropriate assessment instructions to the U.S. Customs Service.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 751(a)(1) of the Act, and section 351.213(d) of the Department's regulations.

Dated: November 1, 2002.
Joseph A. Spetrini,
Deputy Assistant Secretary for Import Administration, Group III.

[FR Doc. 02-28814 Filed 11-12-02; 8:45 am]

BILLING CODE 3510-DS-S